DEPARTMENT OF HEALTH AND HUMAN SERVICES

Administration for Children and Families

45 CFR Part 310

RIN 0970-AB73

Comprehensive Tribal Child Support Enforcement Programs

AGENCY: Office of Child Support Enforcement, Administration for Children and Families, Department of Health and Human Services.

ACTION: Interim final rule; open consultations.

SUMMARY: Notice is hereby given for the dates, locations and hotel sites for the final two Tribal consultations on the interim final rule for funding of comprehensive Tribal child support enforcement (CSE) programs that are currently operating. An interim final rule that will implement direct child support enforcement program funding to Federally recognized Indian tribes and tribal organizations was published in the Federal Register on August 21, 2000 (65 FR 50786). In the interest of providing Tribes and Tribal organizations and the public adequate time to review and comment on the interim final rule, we modified the standard 60-day comment period by extending it to 120 days. The Federal Office of Child Support Enforcement is sponsoring a total of four consultations with federally recognized Indian Tribes, the general public, and Tribal organizations during the 120-day notice and comment period to receive public comment on the interim final rule. The notice for the first two consultations was published September 13, 2000 in the Federal Register (65 FR 55261). The initial consultation was held October 3-5, 2000 in Minneapolis, Minnesota and the second consultation will be held October 24-26, 2000 in Anchorage, Alaska. The notification provides specific information for the final two consultations.

DATES: The final two consultations will be held November 1-3, 2000 in Washington, DC and November 28-30, 2000 in Phoenix, Arizona. The consultations will begin promptly at 9 a.m. and end at 4:30 p.m. on the first two days. The final half-day session will begin promptly at 9 a.m. and end at 12 noon.

ADDRESSES: The third consultation, November 1-3, 2000, will be held at the Monarch Hotel, 2401 M Street, NW., Washington, DC 20037. The telephone number for reservations is (202) 429-2400. The fourth consultation, November 28-30, 2000, will be held at the Crowne Plaza Hotel, 100 North 1st Street, Phoenix, Arizona 85004. The telephone number for reservations is (602) 333-0000. All interested parties are invited to attend these public consultations. Seating may be limited and will be available on a first-come, first-serve basis. Persons needing special assistance, such as sign language interpretation or other special accommodation, should contact the Deputy Director of the Native American Child Support Enforcement Program, Office of Child Support Enforcement, at the address listed below.

FOR FURTHER INFORMATION CONTACT: Ms. Virginia Apodaca, Deputy Director, Native American Child Support Enforcement Program, Office of Child Support Enforcement, Fourth Floor East, 370 L'Enfant Promenade, SW., Washington, DC 20447 (telephone (202) 401-9376; fax (202) 401-5559; e-mail: vapodaca@acf.dhhs.gov). These are not toll-free numbers. It is expected that there will be only four consultations.

SUPPLEMENTARY INFORMATION: A separate notice of the proposed rulemaking open consultations for Tribal CSE programs is published concurrently with this document in this Federal Register. Please review that notice for additional information on the consultations including the purpose, public participation, the agenda, and the minutes.

Dated: October 18, 2000.
David Gray Ross,
Commissioner, Office of Child Support Enforcement.

[FR Doc. 00-27437 Filed 10-24-00; 8:45 am]

BILLING CODE 4184-01-M